DEPARTMENT OF LABOR

Mine Safety and Health Administration

Petitions for Modification

The following parties have filed petitions to modify the application of existing safety standards under section 101(c) of the Federal Mine Safety and Health Act of 1977.

1. Eastern Associated Coal Corp.

[Docket No. M-2002-042-C]

Eastern Associated Coal Corp., 202 Laidley Tower, P.O. Box 1233, Charleston, West Virginia 25324 has filed a petition to modify the application of 30 CFR 75.900 (Low- and medium-voltage circuits serving three-phase alternating current equipment; circuit breakers) to its Rivers Edge Mine (I.D. No. 46-08890) located in Boone County, West Virginia. The petitioner proposes to use contactors instead of circuits breakers to provide undervoltage protection, ground fault, and ground monitor protection. The petitioner asserts that the proposed alternative method would provide at least the same measure of protection as the existing standard.

2. Lone Mountain Processing, Incorporated

[Docket No. M-2002-043-C]

Lone Mountain Processing, Incorporated, Drawer C, St. Charles, Virginia 24282 has filed a petition to modify the application of 30 CFR 75.901 (Protection of low- and medium-voltage three-phase circuits used underground) to its Darby Fork No. 1 Mine (I.D. No. 15-02263) located in Harlan County, Kentucky. The petitioner proposes to use a 480-volt, three-phase, 300KW/375VA diesel powered generator (DPG) set to supply power to a three-phase wye connected 300 KVA auto transformer and three-phase 480-volt and 995-volt power circuits. The petitioner asserts that the proposed alternative method would provide at least the same measure of protection as the existing standard.

3. Lone Mountain Processing, Incorporated

[Docket No. M-2002-044-C]

Lone Mountain Processing, Incorporated, Drawer C, St. Charles, Virginia 24282 has filed a petition to modify the application of 30 CFR 75.901 (Protection of low- and medium-voltage three-phase circuits used underground) to its Huff Creek Mine No. 1 (I.D. No. 15-17234) located in Harlan County, Kentucky. The petitioner proposes to use a 480-volt, three-phase, 300KW/375VA diesel powered generator (DPG) set to supply power to a three-phase wye connected 300 KVA auto transformer and three-phase 480-volt and 995-volt power circuits. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before June 28, 2002. Copies of these petitions are available for inspection at that address.

Dated at Arlington, Virginia, this 22nd day of May, 2002.
Marvin W. Nichols, Jr.,
Director, Office of Standards, Regulations, and Variances.

[FR Doc. 02-13410 Filed 5-28-02; 8:45 am]

BILLING CODE 4510-43-P